DEPARTMENT OF HOMELAND SECURITY

U.S. Customs and Border Protection

[Docket No. USCBP-2019-0019]

U.S. Customs and Border Protection User Fee Advisory Committee (UFAC) Charter Renewal

AGENCY: U.S. Customs and Border Protection (CBP), Department of Homeland Security (DHS).

ACTION: Committee Management; Notice of Federal Advisory Committee Charter Renewal.

SUMMARY: The Secretary of the Department of Homeland Security (DHS) has determined that the renewal of the charter of the U.S. Customs and Border Protection User Fee Advisory Committee (UFAC) is necessary and in the public interest in connection with the U.S. Customs and Border Protection's (CBP's) performance of its duties. This determination follows consultation with the Committee Management Secretariat, General Services Administration.

Name of Committee: U.S. Customs and Border Protection User Fee Advisory Committee (UFAC).

FOR FURTHER INFORMATION CONTACT: Ms. Sonja Grant, Office of Trade Relations, U.S. Customs and Border Protection, 1300 Pennsylvania Avenue NW, Room 3.5A, Washington, DC 20229; telephone (202) 344-1440; facsimile (202) 325-4290.

SUPPLEMENTARY INFORMATION:

Purpose and Objective: The charter of the U.S. Customs and Border Protection User Fee Advisory Committee (UFAC) is being renewed for two years in accordance with the Federal Advisory Committee Act (FACA), 5 U.S.C. Appendix. A copy of the charter can be found at http://www.cbp.gov/trade/stakeholder-engagement/user-fee-advisory-committee. UFAC is tasked with providing advice to the Secretary of the Department of Homeland Security through the Commissioner of U.S. Customs and Border Protection on matters related to the performance of inspections coinciding with the assessment of a customs or immigration user fee.

Duration: The committee's charter is effective June 21, 2019, and expires June 21, 2021.

Responsible CBP Official: Valarie Neuhart, Office of Trade Relations, U.S. Customs and Border Protection, 1300 Pennsylvania Avenue NW, Room 3.5A, Washington, DC 20229; telephone (202) 344-1440.

Dated: August 19, 2019.
Valarie Neuhart,
Deputy Executive Director, Office of Trade Relations.

[FR Doc. 2019-18353 Filed 8-26-19; 8:45 am]

BILLING CODE 9111-14-P